DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held July 18 and 19, 2007, at the Bureau of Land Management's Lewistown Field Office, 920 NE. Main Street, in Lewistown, Montana. The July 18 session will begin at 10 a.m. with a 30-minute public comment period. Following the public comment period, the group will depart for a field trip in the Judith Mountains to discuss travel planning. This meeting is scheduled to adjourn at 5:30 p.m. The July 19 meeting will begin at 8 a.m. with a 30-minute public comment Period and is scheduled to adjourn at 3 p.m.

SUPPLEMENTARY INFORMATION: This 15-member council advises the Secretary of the Interior on a variety of management issues associated with public land management in Montana. During these meetings the council will discuss/act upon:

Travel planning in the Judith-Moccasin Mountains;

The minutes of their preceding meeting;

Field managers' updates;

The oil and gas program, activities and issues;

The Bear Paw South Environmental Impact Statement;

The format for U.S. Forest Service fee proposals;

Law enforcement issues;

A BLM grazing rule update;

An open discussion; and

Administrative details (next meeting agenda, location, etc.).

All RAC meetings are open to the public. The public may present written comments to the RAC. Each formal RAC meeting will also have time allocated for hearing public comments. Depending on the number of persons wishing to comment and time available, the time for individual oral comments may be limited.

FOR FURTHER INFORMATON CONTACT: June Bailey, Lewistown Field Manager, Lewistown Field Office, P.O. Box 1160, Lewistown, Montana 59457, 406-538-1900.

Dated: June 15, 2007.
Scott Haight,
Acting Lewistown Field Manager.

[FR Doc. E7-12226 Filed 6-22-07; 8:45 am]

BILLING CODE 4310-$$-P